DEPARTMENT OF COMMERCE

Office of the Secretary

Estimates of the Voting Age Population for 2021

AGENCY: Office of the Secretary, Department of Commerce.

ACTION: General notice announcing population estimates.

SUMMARY: This notice announces the voting age population estimates as of July 1, 2021, for each state and the District of Columbia. We are providing this notice in accordance with the 1976 amendment to the Federal Election Campaign Act.

FOR FURTHER INFORMATION CONTACT: Karen Battle, Chief, Population Division, U.S. Census Bureau, Room HQ-6H174, 4600 Silver Hill Road, Washington, DC 20233. Phone: 301-763-2071. Email: Karen.Battle@census.gov.

SUPPLEMENTARY INFORMATION: Under the requirements of the 1976 amendment to the Federal Election Campaign Act, title 52, United States Code, section 30116(e), I hereby give notice that the estimates of the voting age population for July 1, 2021, for each state and the District of Columbia are as shown in the following table.

Estimates of the Population of Voting Age for Each State and the District of Columbia: July 1, 2021
Area | Population 18 and over
United States | 258,327,312
Alabama | 3,917,625
Alaska | 553,317
Arizona | 5,662,328
Arkansas | 2,322,502
California | 30,465,205
Colorado | 4,568,613
Connecticut | 2,875,887
Delaware | 795,090
District of Columbia | 544,215
Florida | 17,491,848
Georgia | 8,275,264
Hawaii | 1,137,154
Idaho | 1,431,897
Illinois | 9,868,245
Indiana | 5,218,979
Iowa | 2,456,703
Kansas | 2,231,518
Kentucky | 3,493,482
Louisiana | 3,541,104
Maine | 1,120,338
Maryland | 4,801,825
Massachusetts | 5,622,590
Michigan | 7,897,432
Minnesota | 4,389,823
Mississippi | 2,257,130
Missouri | 4,783,630
Montana | 869,201
Nebraska | 1,480,808
Nevada | 2,445,243
New Hampshire | 1,132,616
New Jersey | 7,244,002
New Mexico | 1,642,656
New York | 15,722,590
North Carolina | 8,249,659
North Dakota | 589,247
Ohio | 9,174,388
Oklahoma | 3,025,109
Oregon | 3,384,804
Pennsylvania | 10,290,047
Rhode Island | 886,783
South Carolina | 4,073,613
South Dakota | 674,947
Tennessee | 5,434,544
Texas | 22,052,508
Utah | 2,390,732
Vermont | 528,594
Virginia | 6,757,448
Washington | 6,062,570
West Virginia | 1,423,928
Wisconsin | 4,621,152
Wyoming | 446,379
Source: U.S. Census Bureau, Population Division, Vintage 2021 Population Estimates.

I have certified these estimates for the Federal Election Commission.

Gina Raimondo, Secretary, Department of Commerce, approved the publication of this Notice in the Federal Register.

Dated: March 24, 2022.
Sheleen Dumas,
Department PRA Clearance Officer, Office of the Chief Information Officer, Commerce Department.

[FR Doc. 2022-06654 Filed 3-29-22; 8:45 am]

BILLING CODE 3510-07-P